DEPARTMENT OF AGRICULTURE

Agricultural Marketing Service

7 CFR Part 1006

[AMS-DA-17-0068; AO-18-0008]

Milk in the Florida Marketing Area; Supplemental Notification of Hearing

AGENCY: Agricultural Marketing Service, USDA.

ACTION: Proposed rule; supplemental notification of public hearing.

SUMMARY: A public hearing is being held, on an emergency basis, to consider a proposal submitted by Southeast Milk, Inc., Dairy Farmers of America, Inc., Premier Milk, Inc., Maryland and Virginia Milk Producers Cooperative Association, Inc., and Lone Star Milk Producers, L.C. This supplemental notice extends the hearing from December 12, 2017, through December 14, 2017, in order to provide adequate public notification.

DATES: The hearing will convene at 9:00 a.m. on December 12, 2017, December 13, 2017 and December 14, 2017.

ADDRESSES: The hearing will be held at the Embassy Suites by Hilton Tampa Downtown Convention Center, 513 South Florida Avenue, Tampa, Florida 33602; telephone (813) 769-8326.

FOR FURTHER INFORMATION CONTACT: Erin Taylor, Acting Director, Order Formulation and Enforcement Division, USDA/AMS/Dairy Program, Stop 0231—Room 2963, 1400 Independence Avenue SW., Washington, DC 20250-0231; (202) 720-7311; email address: erin.taylor@ams.usda.gov.

SUPPLEMENTARY INFORMATION: On December 7, 2017, a Notice of Hearing was placed on public inspection at the Federal Register (Document Number 2017-26632) announcing a hearing to begin on December 12, 2017. That notice is scheduled to be published December 11, 2017. The Rules of Practice and Procedure Governing Proceedings to Formulate Marketing Agreements and Marketing Orders require that the time of a hearing cannot be less than 3 days after the date of publication of the notice in the Federal Register (7 CFR 900.4).

Therefore, notice is hereby given that the public hearing to be held at the Embassy Suites by Hilton Tampa Downtown Convention Center, 513 South Florida Avenue, Tampa, Florida 33602, will be held December 12, 2017, through December 14, 2017. The hearing will begin at 9:00 a.m. on each hearing day. If no interested persons appear to present testimony or evidence by noon on December 13, 2017 or December 14, 2017, the hearing will conclude at noon on that day.

List of Subjects in 7 CFR Part 1006

Milk marketing orders.

Authority: 7 U.S.C. 601-674, and 7253.

Dated: December 7, 2017.
Bruce Summers,
Acting Administrator, Agricultural Marketing Service.

[FR Doc. 2017-26717 Filed 12-8-17; 8:45 am]

BILLING CODE 3410-02-P